SMALL BUSINESS ADMINISTRATION

Small Business Size Standards: Notification of Two Virtual Public Forums on Monetary-Based Industry Size Standards

AGENCY: U.S. Small Business Administration.

ACTION: Notification of virtual public forums on size standards.

SUMMARY: The U.S. Small Business Administration (SBA) is holding a series of two virtual public forums on size standards to update the public and to consider public testimony on proposed changes contained in the proposed rule titled Small Business Size Standards: Monetary-Based Industry Size Standards. Testimony presented at these forums will become part of the administrative record for SBA's consideration when developing the final rule.

DATES: The virtual forum dates are as follows:

• Wednesday, September 17, 2025, from 1:00 p.m. to 3:00 p.m. (EDT)

• Thursday, September 18, 2025, from 1:00 p.m. to 3:00 p.m. (EDT)

ADDRESSES: The forums will be held via the Microsoft Teams platform. Registration is required to attend these virtual events. Visit SBA's size standards web page at www.sba.gov/size to register.

FOR FURTHER INFORMATION CONTACT: Miriam Birdwell, Economist, Size Standards Division, (202) 205-6618 or sizestandards@sba.gov. The phone number above may also be reached by individuals who are deaf or hard of hearing, or who have speech disabilities, through the Federal Communications Commission's TTY-Based Telecommunications Relay Service teletype service at 711.

SUPPLEMENTARY INFORMATION:

I. Background

SBA is seeking public comments on a proposed rule (Small Business Size Standards: Monetary-Based Industry Size Standards (90 FR 41168, August 22, 2025)) that would increase its monetary based small business size definitions (commonly referred to as `size standards') for 263 industries (259 receipts based and four assets based). The comment period ends on October 21, 2025.

The changes contained in the proposed rule are part of SBA's third five-year review of size standards, as required under the Small Business Jobs Act of 2010 (Sec. 1344, Pub. L. 111-240, 124 Stat. 2545 (September 27, 2010)). The revised size standards reflect SBA's considerations of the relevant industry and programmatic data and SBA's proposed policy of not lowering any size standards, except for excluding dominant firms from qualifying as small. As part of the review of size standards, SBA considers the structural characteristics of individual industries, including average firm size, the degree of competition, and Federal Government contracting trends. This ensures that small business size standards reflect current economic conditions in those industries. SBA's proposed revisions relied on the “Size Standards Methodology” (Revised Methodology) issued on September 12, 2024, and available at www.sba.gov/size.

II. Virtual Public Forums on Size Standards

Under this notice, SBA is advising the public that it is hosting a series of two virtual public forums on size standards to update the public and to consider public testimony on proposed changes contained in the August 2025 proposed rule on size standards. These forums also conform to the requirements of section 1344 of the Small Business Jobs Act of 2010 which requires SBA to hold not less than two public forums during its quinquennial review of size standards.

SBA considers public forums on size standards as a valuable component of its deliberations and believes that these forums will allow for constructive dialogue with small businesses and their representatives, industry trade associations, participants in SBA's contracting and financial assistance programs, and other stakeholders.

The format of these forums will consist of a panel of SBA representatives who will preside over the session. The oral and written testimony as well as any comments SBA receives during the forum will become part of the administrative record for SBA's consideration when preparing the final rule. Written testimony may be submitted in lieu of oral testimony on or before October 21, 2025, at the Federal eRulemaking Portal at www.regulations.gov, using the following RIN number: RIN 3245-AI12 or SBA Docket No. SBA-2025-0102 or by mail to Dr. Khem R. Sharma, Chief, Size Standards Division, 409 3rd Street SW, Mail Code 6530, Washington, DC 20416. SBA will analyze the testimony, both oral and written, along with any written comments received and respond to all comments in the final rule. However, during the public forum, SBA officials will not provide comment on the testimony of speakers. SBA requests that commenters focus on SBA's August 2025 proposed rulemaking and the impacted industries described therein. SBA requests that commenters do not raise issues pertaining to industries not covered under the proposed rule, or issues outside the scope of the rule. Presenters are encouraged to provide a written copy of their testimony. SBA will accept written material that the presenter wishes to provide that further supplements his or her testimony. Electronic or digitized copies are encouraged.

The two virtual public forums on size standards will be held on September 17, 2025, and September 18, 2025, beginning at 1:00 p.m. and ending at 3:00 p.m. (EDT); SBA will adjourn early if all testimony has been delivered before the end time.

III. Registration

Participants must pre-register to attend either of the two virtual public forums on size standards by visiting SBA's size standards web page at www.sba.gov/size and registering at the link provided. On the registration form, participants may indicate whether they would like to testify at the forum. After registering, participants will receive an email with an access link and call-in information which can be used to access the forum on the scheduled date and time. Additional information about the forum is provided on `announcements about updating size standards' on SBA's size standards web page at www.sba.gov/size, and on the invitation that participants receive upon registration. SBA will attempt to accommodate all interested parties that wish to present testimony. Based on the number of registrants it may be necessary to impose time limits to ensure that everyone who wishes to testify can do so.

IV. Information on Service for Individuals With Disabilities

For information on services for individuals with disabilities or to request special assistance contact

Miriam Birdwell at the telephone number or email address indicated under the FOR FURTHER INFORMATION CONTACT section of this notice.

Demetrick “Tre” Pennie,
Associate Administrator, Office of Government Contracting and Business Development.

[FR Doc. 2025-17073 Filed 9-4-25; 8:45 am]

BILLING CODE 8026-09-P